DEPARTMENT OF ENERGY

Federal Energy Regulatory Commission

[Docket No. IC01-719-000, FERC-719]

Proposed Information Collection and Request for Comments

December 20, 2000.

AGENCY: Federal Energy Regulatory Commission.

ACTION: Request for Office of Management and Budget Emergency Processing of proposed information collection and request for comments.

SUMMARY: The Federal Energy Regulatory Commission (Commission) is providing notice of its request to the Office of Management and Budget (OMB) for emergency processing of a proposed collection of information in connection with the California electricity markets, and is soliciting public comment on that information collection.

DATES: The Commission and OMB must receive comments on or before December 22, 2000.

ADDRESSES: Send comments to:

(1) Michael Miller, Office of the Chief Information Officer, CI-1, Federal Energy Regulatory Commission, 888 First Street NE, Washington, DC 20426. Mr. Miller may be reached by telephone at (202) 208-1415 and by e-mail at mike.miller@ferc.fed.us; and

(2) Amy Farrell, FERC Desk Officer, Office of Information and Regulatory Affairs, Office of Management and Budget, Room 10202 NEOB, 725 17th Street NW, Washington, DC 20503. Ms. Farrell may be reached by telephone at (202) 395-7318 or by fax at (202) 395-7285.

FOR FURTHER INFORMATION CONTACT: Mary Morton, Office of the General Counsel, Federal Energy Regulatory Commission, (202) 208-0642.

SUPPLEMENTARY INFORMATION: The Federal Power Act directs the Commission to ensure just and reasonable rates for transmission and wholesale sales of electricity in interstate commerce. See 16 U.S.C. 824e(a). To enable the Commission to fulfill this duty, the Federal Power Act also authorizes the Commission to conduct investigations of, and collect information from public utilities. See 16 USC 825, 825c, 825f, and 825j. The Commission has been investigating the California electricity market, which is in a state of emergency with prices at extremely high levels. The Commission has concluded that a primary cause of the problems was that the investor-owned utilities in California (IOUs) were required to sell all the power they generate into the California Power Exchange (PX), and then buy back from the PX all the power they need. This requirement caused IOUs to make most of their purchases on the spot market. On December 15, 2000, the Commission issued an order to remedy the problems in California. San Diego Gas & Electric Co., et al. v. Sellers of Energy and Ancillary Services et al., Docket No. EL00-95-000 et al., 93 FERC ¶61, 294. That order includes reporting requirements that may be subject to the Paperwork Reduction Act, which requires OMB to review certain federal reporting requirements. 44 USC 3507. In light of the critical condition of the California electricity markets, the Commission has requested emergency processing of this proposed information collection.

The Commission's order eliminates the PX buy-sell requirement, and encourages IOUs to purchase most of the power they need (apart from their own self-supplied power) through long-term contracts. For those purchases still made in the spot market, the order directs a technical conference to be held so that a comprehensive monitoring and mitigation program can be proposed and in place by May 1, 2001, to ensure that prices are just and reasonable. During the interim period before the monitoring plan is in place, sellers bidding at or below $150 per megawatt hour (MWh) on the PX or Independent System Operator (ISO) spot markets will receive the market clearing prices, but not more than $150. If sellers bidding above the $150 breakpoint are selected to clear the market, those sellers will receive their actual bids. However, to allow the Commission to monitor the prices charged on the ISO and PX spot markets, the Commission proposes to require sellers to report any hourly transaction exceeding $150. See San Diego Gas & Electric Co. et al. v. Sellers of Energy and Ancillary Services et al., slip op. at 31-32.

The Commission will refer to these reports as “California Public Utility Sellers Weekly Reports.” Sellers would provide the Public Utility Sellers Weekly Reports on a weekly basis beginning on January 10, 2001 for the week of January 1, 2001. The Reports would contain the following information:

Generation unit;

Transaction starting and ending times;

Price and quantity;

Heat rate (btu/KWh) and type of fuel (natural gas, oil, coal, and other);

If not generated, the purchase price and the name of the supplier;

Total fuel quantity and cost;

NOX emissions rate (lbs/MWh) and cost;

Variable operation and maintenance costs;

Outage information for all of the seller's individual resources for the transaction period;

Any unsold MWhs which the individual seller has failed to bid into the spot markets during the transaction period; and

All bids submitted into the spot markets during the transaction period.

For more information, see San Diego Gas & Electric Co., et al. v. Sellers of Energy and Ancillary Services et al., slip op. at 59-61.

The Commission estimates that 150 sellers could be subject to this reporting requirement, and that during any given week, 10 to 20 of those sellers would likely have to report. Therefore, for the 17 weeks the reporting requirement would be in place, there would be a maximum of 340 reports to be filed. The Commission estimates that it would take each seller 24 hours to develop a system for generating the reports, and no more than 6 hours to generate each individual report. Therefore, the total number of hours it would take to comply with the reporting requirement would be 5,640 hours. The Commission estimates a cost of $50 per hour, based on salaries for professional and clerical staff, as well as direct and indirect overhead costs. Therefore, the total estimated cost of compliance would be $282,000.

The Commission has submitted this reporting requirement to OMB for approval. OMB's regulations describe the process that federal agencies must follow in order to obtain OMB approval of reporting requirements. See 5 CFR Part 1320. The standards for emergency processing of information collections appear at 5 CFR 1320.13. If OMB approves a reporting requirement, then it will assign an information collection control number to that requirement. If a request for information subject to OMB review does not display a valid control number, or if the agency has not provided a justification as to why the control number cannot be displayed, then the recipient is not required to respond.

OMB requires federal agencies seeking approval of reporting requirements to allow the public an opportunity to comment on the proposed reporting requirement. 5 CFR 1320.5(a)(1)(iv). Therefore, the Commission is soliciting comment on:

(1) Whether the collection of the information is necessary for the proper performance of the Commission's functions, including whether the information will have practical utility;

(2) The accuracy of the Commission's estimate of the burden of the collection of this information, including validity of the methodology and assumptions used;

(3) The quality, utility, and clarity of the information to be collected; and

(4) How to minimize the burden of the collection of this information on respondents, including the use of appropriate automated electronic, mechanical, or other forms of information technology.

Linwood A. Watson, Jr.,
Acting Secretary.

[FR Doc. 00-32906 Filed 12-26-00; 8:45 am]

BILLING CODE 6717-01-M